DEPARTMENT OF TRANSPORTATION

Federal Aviation Administration

14 CFR Part 97

[Docket No. 31314 Amdt. No. 3907]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective June 12, 2020. The compliance date for each SIAP, associated Takeoff Minimums, and ODP is specified in the amendatory provisions.

The incorporation by reference of certain publications listed in the regulations is approved by the Director of the Federal Register as of June 12, 2020.

ADDRESSES: Availability of matters incorporated by reference in the amendment is as follows:

For Examination

1. U.S. Department of Transportation, Docket Ops-M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, email fedreg.legal@nara.gov or go to: https://www.archives.gov/federal-register/cfr/ibr-locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (Air).

Issued in Washington, DC, on May 29, 2020.
Robert C. Carty,
Executive Deputy Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 16 July 2020

Gulkana, AK, Gulkana, RNAV (GPS) RWY 15, Amdt 2, CANCELLED

Gulkana, AK, Gulkana, RNAV (GPS) RWY 15L, Orig

Gulkana, AK, Gulkana, RNAV (GPS) RWY 33, Amdt 2, CANCELLED

Gulkana, AK, Gulkana, RNAV (GPS) RWY 33R, Orig

Gulkana, AK, Gulkana, VOR RWY 15L, Orig

Gulkana, AK, Gulkana, VOR/DME RWY 15, Orig, CANCELLED

Teller, AK, Teller, Takeoff Minimums and Obstacle DP, Amdt 1

Unalakleet, AK, Unalakleet, VOR-D, Amdt 6, CANCELLED

Keystone Heights, FL, Keystone Heights, RNAV (GPS) RWY 5, Orig-B

Atlanta, GA, Newnan Coweta County, Takeoff Minimums and Obstacle DP, Amdt 3C

Blakely, GA, Early County, LOC/NDB RWY 23, Amdt 1B, CANCELLED

Camilla, GA, Camilla-Mitchell County, NDB RWY 8, Amdt 3A, CANCELLED

Canton, GA, Cherokee County Rgnl, Takeoff Minimums and Obstacle DP, Amdt 2A

Cairo, IL, Cairo Rgnl, NDB RWY 14, Amdt 2C

Cairo, IL, Cairo Rgnl, RNAV (GPS) RWY 14, Orig-C

Abilene, KS, Abilene Muni, RNAV (GPS) RWY 17, Amdt 1C

Shreveport, LA, Shreveport Rgnl, LOC RWY 6, Amdt 4

Shreveport, LA, Shreveport Rgnl, RADAR-1, Amdt 6

Shreveport, LA, Shreveport Rgnl, RNAV (GPS) RWY 6, Amdt 4

Shreveport, LA, Shreveport Rgnl, Takeoff Minimums and Obstacle DP, Amdt 2

Baltimore, MD, Martin State, VOR OR TACAN RWY 15, Orig-C

Caribou, ME, Caribou Muni, RNAV (GPS) RWY 1, Orig-A

Caribou, ME, Caribou Muni, RNAV (GPS) RWY 19, Amdt 1A

Battle Creek, MI, W K Kellogg, RADAR-1, Amdt 2, CANCELLED

Muskegon, MI, Muskegon County, RADAR-1, Amdt 15, CANCELLED

Austin, MN, Austin Muni, RNAV (GPS) RWY 17, Amdt 2A

Malden, MO, Malden Rgnl, RNAV (GPS) RWY 18, Amdt 1B

Perryville, MO, Perryville Rgnl, RNAV (GPS) RWY 2, Orig-B

North Wilkesboro, NC, Wilkes County, ILS Y OR LOC Y RWY 1, Amdt 1A

North Wilkesboro, NC, Wilkes County, ILS Z OR LOC Z RWY 1, Orig-A

Statesville, NC, Statesville Rgnl, VOR/DME RWY 10, Amdt 9A, CANCELLED

Cambridge, NE, Cambridge Muni, NDB RWY 15, Amdt 4, CANCELLED

Raton, NM, Raton Muni/Crews Field, VOR/DME RWY 2, Amdt 7, CANCELLED

Altus, OK, Altus/Quartz Mountain Rgnl, RNAV (GPS) RWY 35, Amdt 1A

Franklin, PA, Venango Rgnl, RNAV (GPS) RWY 3, Amdt 1C

Dickson, TN, Dickson Muni, NDB RWY 17, Amdt 3A, CANCELLED

Georgetown, TX, Georgetown Muni, RNAV (GPS) RWY 11, Amdt 1A

Georgetown, TX, Georgetown Muni, RNAV (GPS) RWY 29, Amdt 1A

Hearne, TX, Hearne Muni, RNAV (GPS) RWY 18, Orig-B

St George, UT, St George Muni, VOR/DME-A, Orig-A, CANCELLED

Waupaca, WI, Waupaca Muni, RNAV (GPS) RWY 10, Amdt 2A

Elkins, WV, Elkins-Randolph Co-Jennings Randolph Fld, RNAV (GPS) RWY 23, Orig-B

[FR Doc. 2020-12711 Filed 6-11-20; 8:45 am]

BILLING CODE 4910-13-P